DEPARTMENT OF DEFENSE

Department of the Air Force

[Docket ID: USAF-2008-0032]

Privacy Act of 1974; System of Records

AGENCY: Department of the Air Force, DoD.

ACTION: Notice to add a system of records.

SUMMARY: The Department of the Air Force proposes to add a system of records to its inventory of record systems subject to the Privacy Act of 1974 (5 U.S.C. 552a), as amended.

DATES: The proposed action will be effective on December 12, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on October 24, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: November 3, 2008.
Morgan E. Frazier,
Alternate OSD Federal Register Liaison Officer, Department of Defense.

F011 ACC B

System name:

Airborne Warning and Control System (AWACS) Records.

System location:

Department of Air Force, 552d Air Control Wing, Tinker AFB, 552d Air Control Group (552 ACG), 7575 Sentry Blvd, Suite 117, Tinker AFB, OK 73145-9037.

Official mailing addresses are published as an appendix to the Air Force's compilation of systems of records notices.

Categories of individuals covered by the system:

Air Force active duty military personnel, Air Force civilian employees, Air Force contractors, Air Force Reserve and those foreign military personnel who are attached to the U.S. Air Force (USAF) for flying support.

Categories of records in the system:

Personnel records related to an individual's ancillary training, qualifications, and schedules. Data fields contained in the records include: full name, e-mail address, Social Security Number (SSN), work phone, location, organization, job series, and grade.

Authority for Maintenance of the System:

5 U.S.C. 301, Departmental Regulations; 10 U.S.C. 8013, Secretary of the Air Force; AFI 11-202V2 ACC Sup Aircrew Standardization/Evaluation Program; AFI 11-401 Aviation Management; ACCI 11-464 Training Records and Performance Evaluation in Formal Flying Training Programs; and EO 9397 (SSN).

Purpose(s):

To manage and administer Air Force aviation and non-flying operations. This includes aircrew training and evaluation, flight schedule functions, flying safety and related functions needed to attain and maintain combat or mission readiness, ancillary training, scheduling functions, mobility/deployment requirements tracking.

In addition to those disclosures generally permitted under 5 U.S.C. 552a(b) of the Privacy Act, these records, or information contained therein, may specifically be disclosed outside the DOD as a routine use pursuant to 5 U.S.C. 552a(b)(3) as follows:

The DoD ‘Blanket Routine Uses’ published at the beginning of the Air Force's compilation of systems of records notices apply to this system.

Policies and practices for storing, retrieving, accessing, retaining, and disposing of records in the System:

Storage:

Electronic storage media.

Retrievability:

Individual's name and/or Social Security Number (SSN).

Safeguards:

AMS provides detailed and specific access levels and permissions to ensure that only authorized users have access to read and or write information, or perform other operations with the system. Access will be granted using the Common Access Card (CAC) or username/password security model. A combination of physical, personnel, and system-enforced security mechanisms control access. All accesses, whether procedural or system-enforced, are adjudicated based on each person's authorized “need-to-know.”

Retention and disposal:

Maintained until superseded, obsolete, or no longer needed. Destroy paper records by tearing, pulping, burning, shredding, or macerating. Destroy computer records by overwriting or degaussing.

System Manager and address:

Chief, Maintenance Data Systems Analysis Section, Department of Air Force, 552d Air Control Group (552 ACG), ATTN: AMS PGM, 7575 Sentry Blvd, Suite 117, Tinker AFB, OK 73127-9037.

Notification procedure:

Individuals seeking to determine whether this system of records contains information about themselves should address written inquiries to Department of Air Force, 552d Air Control Group (552 ACG), ATTN: AMS PGM, 7575 Sentry Blvd, Suite 117, Tinker AFB, OK 73127-9037.

Individuals may also contact the system manager at each unit utilizing AMS or the Host Database Manager. Official mailing addresses are published as an appendix to the Air Force's compilation of systems of records notices.

In order to obtain records that are in AMS's files, a requester must submit a written request to 552d Air Control Group (552 ACG). Individuals wishing to file a request with 552 ACG must address their request in writing to 552d Air Control Group (552 ACG), Attn: AMS Program Manager, 7575 Sentry Blvd, Ste 117, Tinker AFB, OK 73145-2713.

Written requests must contain specific information about each record sought, such as the date, title or name, author, recipient and subject matter of the record.

Record access procedures:

Individuals seeking access to information about themselves contained in this system should address written inquiries to 552d Air Control Group (552 ACG), ATTN: AMS PGM, 7575 Sentry Blvd, Suite 117, Tinker AFB, OK 73127-9037.

Individuals may also contact the system manager at each unit utilizing AMS or the Host Database Manager. Official mailing addresses are published as an appendix to the Air Force's compilation of systems of records notices.

In order to obtain records that are in AMS's files, a requester must submit a written request to 552d Air Control Group (552 ACG). Individuals wishing to file a request with 552 ACG must address their request in writing to 552d Air Control Group (552 ACG), Attn: AMS Program Manager, 7575 Sentry Blvd, Ste 117, Tinker AFB, OK 73145-2713.

Written requests must contain specific information about each record sought, such as the date, title or name, author, recipient and subject matter of the record.

Contesting records procedures:

The Air Force rules for accessing records and for contesting contents and appealing initial agency determinations are published in Air Force Instruction 37-132; 32 CFR part 806b; or may be obtained from the system manager.

Record source categories:

Automated system interfaces and source documents. AMS has an interface with the Air Force Resource Management System (AFORMS).

Exemptions claimed for the system:

None.

[FR Doc. E8-26753 Filed 11-10-08; 8:45 am]

BILLING CODE 5001-06-P